DEPARTMENT OF THE TREASURY

United States Mint

Notification of United States Mint Silver Eagle Bullion Coin Premium Increase

ACTION: Notification of United States Mint Silver Eagle Bullion Coin Premium Increase.

SUMMARY: The United States Mint is increasing the premium charged to Authorized Purchasers for American Eagle Silver Bullion Coins, a program authorized under 31 U.S.C. 5112(e).

Because of the recent price increase for the premium for raw materials silver, the United States Mint will increase the premium charged to Authorized Purchasers for American Eagle Silver Bullion Coins, from $1.40 to $1.50 per coin, for all orders accepted on or after February 9, 2009.

FOR FURTHER INFORMATION CONTACT: B.B. Craig, Associate Director for Sales and Marketing; United States Mint; 801 Ninth Street, NW.; Washington, DC 20220; or call 202-354-7500.

Authority: 31 U.S.C. 5112(e)-(f) & 9701.

Dated: January 22, 2009.
Edmund C. Moy,
Director, United States Mint

[FR Doc. E9-1684 Filed 1-26-09; 8:45 am]

BILLING CODE 4810-37-P